DEPARTMENT OF TRANSPORTATION

Surface Transportation Board

[STB Finance Docket No. 34936]

Port of Moses Lake—Construction Exemption—Moses Lake, WA [STB Finance Docket No. 34936 (Sub-No. 1)]; Port of Moses Lake—Acquisition Exemption—Moses Lake, WA

AGENCY: Surface Transportation Board and Washington State Department of Transportation.

ACTION: Notice of Availability of Environmental Assessment and Request for Public Review and Comment.

SUMMARY: By petition filed on August 28, 2008, the Port of Moses Lake (Port) seeks an exemption under 49 U.S.C. 10502 from the prior approval requirements of 49 U.S.C. 10901 to construct rail lines in Grant County, Washington. In the same petition, the Port also seeks an exemption under 49 U.S.C. 10502 from the prior approval requirements of 49 U.S.C. 10901 to acquire an existing segment of rail line from Columbia Basin Railroad Company, Inc. (CBRW). The Board, through its Section of Environmental Analysis (SEA), and the Washington State Department of Transportation (WSDOT) are co-lead agencies responsible for the environmental review of the proposed rail project and the preparation of the Environmental Assessment (EA).

The proposed project, known as the Northern Columbia Basin Railroad Project, includes the construction of two new rail line segments and the acquisition and refurbishment of an existing rail segment to provide rail access to land designated and zoned for industrial uses along Wheeler Road (Road 3 NE) and at the Grant County International Airport (GCIA). The entire proposed route would extend approximately 11.5 miles.

For Segment 1, the Port proposes to construct a rail line that would allow trains to bypass downtown Moses Lake and would provide access to the industrial areas along Wheeler Road (Road 3 NE), including one of two alternatives for a bridge crossing at Parker Horn or Crab Creek. For Segment 2, the Port proposes to extend the existing track (Segment 3), which currently terminates just south of the GCIA, to the industrial lands located east of the GCIA. For Segment 3, the Port proposes to acquire and rehabilitate an existing rail line that is currently owned by CBRW. Goods to be shipped would vary depending on the specific industries that may locate along the route, but would likely consist of steel, manufactured parts, and specialty chemicals. The proposed rail route would accommodate a maximum of two trains (one round trip) per day for the foreseeable future.

Copies of the EA have been served on all interested parties and will be made available to additional parties upon request. The entire EA is also available for review on the Board's Web site (http://www.stb.dot.gov) by going to “E-LIBRARY,” clicking on the “Decisions and Notices” link, and then searching by the Service Date (November 7, 2008) or Docket Number (FD 34936). SEA, working with WSDOT, will consider all comments received in making its final recommendations to the Board. The Board will then consider SEA's final recommendations and the complete environmental record in making its final decision in this proceeding.

FOR FURTHER INFORMATION CONTACT: Christa Dean, Attorney and Project Manager, at (202) 245-0299; e-mail: christa.dean@stb.dot.gov, or Elizabeth Phinney, WSDOT Rail Environmental Manager, at (360) 705-7902; e-mail: phinnee@wsdot.wa.gov. Federal Information Relay Service for the hearing impaired: 1-800-877-8339.

DATES: The EA is available for public review and comment. All comments must be submitted or post-marked by December 8, 2008.

ADDRESSES: Send written comments to: Christa Dean, Surface Transportation Board, 395 E Street, SW., Room 1108, Washington, DC 20423.

Please reference STB Docket No. 34992 in all correspondence.

Comments on the EA may also be filed electronically on the Board's Web site, http://www.stb.dot.gov, by clicking on the “E-FILING” link.

Decided: November 7, 2008.
By the Board, Victoria Rutson, Chief, Section of Environmental Analysis.
Kulunie L. Cannon,
Clearance Clerk.

[FR Doc. E8-26552 Filed 11-6-08; 8:45 am]

BILLING CODE 4915-01-P